DEPARTMENT OF ENERGY

Federal Energy Regulatory Commission

[Docket No. OR12-19-000]

Delek Crude Logistics, LLC; Notice of Petition for Waiver

Take notice that on June 11, 2012, Delek Crude Logistics, LLC (“Delek Crude”) respectfully requests that the Federal Energy Regulatory Commission (“Commission”) grant a temporary waiver of the filing and reporting requirements of sections 6 and 201 of the Interstate Commerce Act (“ICA”), and parts 341 and 357 of the Commission's regulations with respect to the East Texas Crude Logistics crude oil pipeline system.

Any person desiring to intervene or to protest in this proceedings must file in accordance with Rules 211 and 214 of the Commission's Rules of Practice and Procedure (18 CFR 385.211 and 385.214) on or before 5:00 p.m. Eastern time on the specified comment date. Protests will be considered by the Commission in determining the appropriate action to be taken, but will not serve to make protestants parties to the proceeding. Anyone filing a motion to intervene or protest must serve a copy of that document on the Petitioner.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Comment Date: 5:00 p.m. Eastern Time on Friday, September 28, 2012.

Dated: September 5, 2012.
Kimberly D. Bose,
Secretary.

[FR Doc. 2012-22326 Filed 9-10-12; 8:45 am]

BILLING CODE 6717-01-P